DEPARTMENT OF ENERGY

Federal Energy Regulatory Commission

Combined Notice of Filings #1

Take notice that the Commission received the following electric rate filings:

Docket Numbers: ER15-1451-001.

Applicants: California Independent System Operator Corporation.

Description: Compliance filing: 2015-10-26 Filing in Compliance with Sept 25 2015 Order in Docket ER15-1451 to be effective 9/25/2015.

Filed Date: 10/26/15.

Accession Number: 20151026-5417.

Comments Due: 5 p.m. ET 11/16/15.

Docket Numbers: ER15-2208-002.

Applicants: ISO New England Inc.

Description: Compliance filing: Winter Reliability Compliance Filing to be effective 9/14/2015.

Filed Date: 10/26/15.

Accession Number: 20151026-5241.

Comments Due: 5 p.m. ET 11/16/15.

Docket Numbers: ER16-142-000.

Applicants: Pacific Gas and Electric Company.

Description: Tariff Cancellation: Notice of Termination of McAllister Ranch ID IA and WDT SA to be effective 12/31/2015.

Filed Date: 10/26/15.

Accession Number: 20151026-5007.

Comments Due: 5 p.m. ET 11/16/15.

Take notice that the Commission received the following land acquisition reports:

Docket Numbers: LA15-3-000.

Applicants: Alabama Electric Marketing, LLC, Astoria Generating Company, L.P., Big Sandy Peaker Plant, LLC, California Electric Marketing, LLC, Crete Energy Venture, LLC, CSOLAR IV South, LLC, CSOLAR IV West, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, Wolf Hills Energy, LLC.

Description: Quarterly Land Acquisition Report of the Tenaska MBR Sellers.

Filed Date: 10/26/15.

Accession Number: 20151026-5430.

Comments Due: 5 p.m. ET 11/16/15.

Take notice that the Commission received the following PURPA 210(m)(3) filings:

Docket Numbers: QM14-3-000.

Applicants: Entergy Arkansas, Inc., Entergy Gulf States Louisiana, L.L.C., Entergy Louisiana, LLC, Entergy Mississippi, Inc., Entergy New Orleans, Inc., Entergy Services, Inc., Entergy Texas, Inc., Entergy Services, Inc.

Description: Response to Third Deficiency Letter of Entergy Services, Inc., et al.

Filed Date: 10/23/15.

Accession Number: 20151023-5371.

Comments Due: 5 p.m. ET 11/20/15.

Take notice that the Commission received the following electric reliability filings:

Docket Numbers: RD15-5-000; RD15-5-001; RD15-6-000.

Applicants: North American Electric Reliability Corporation.

Description: Clarifying Supplemental Information of the North American Electric Reliability Corporation Updating Implementation Plan.

Filed Date: 10/23/15.

Accession Number: 20151023-5403.

Comments Due: 5 p.m. ET 11/3/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2015.
Nathaniel J. Davis, Sr.,
Deputy Secretary.

[FR Doc. 2015-27842 Filed 10-30-15; 8:45 am]

BILLING CODE 6717-01-P